DEPARTMENT OF VETERANS AFFAIRS

[OMB Control No. 2900-New (10-0468)]

Agency Information Collection (Internet Student CPR Web Registration Application) Activities Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden and includes the actual data collection instrument.

DATES: Comments must be submitted on or before December 17, 2009.

ADDRESSES: Submit written comments on the collection of information through www.Regulations.gov or to VA's OMB Desk Officer, OMB Human Resources and Housing Branch, New Executive Office Building, Room 10235, Washington, DC 20503, (202) 395-7316. Please refer to “OMB Control No. 2900-New (10-0468)” in any correspondence.

FOR FURTHER INFORMATION CONTACT: Denise McLamb, Enterprise Records Service (005R1B), Department of Veterans Affairs, 810 Vermont Avenue, NW., Washington, DC 20420, (202) 461-7485, fax (202) 273-0443 or e-mail denise.mclamb@mail.va.gov. Please refer to “OMB Control No. 2900-New (10-0468).”

SUPPLEMENTAL INFORMATION: Titles: Internet Student CPR Web Registration Application, VA Form 10-0468.

OMB Control Number: 2900-New (10-0468).

Type of Review: New collection.

Abstract: The data collected on VA Form 10-0468 will be used to establish a roster on students attending courses provided by the Minneapolis VA Medical Center Education Service. Students will be able to identify and register for a training course online without waiting for the Registrar to return calls or e-mails to confirm enrollment.

An agency may not conduct or sponsor, and a person is not required to respond to a collection of information unless it displays a currently valid OMB control number. The Federal Register Notice with a 60-day comment period soliciting comments on this collection of information was published on September 9, 2009, at page 46485.

Affected Public: Individuals or households.

Estimated Total Annual Burden: 125 hours.

Estimated Average Burden Per Respondent: 5 minutes.

Frequency of Response: Bi-Annually.

Estimated Number of Respondents: 1,500.

Dated: November 12, 2009.
By direction of the Secretary.
Denise McLamb,
Program Analyst, Enterprise Records Service.

[FR Doc. E9-27586 Filed 11-16-09; 8:45 am]

BILLING CODE 8320-01-P